DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Grantee Data Reporting System for the Rural Health Outreach Grant Program (RHOGP): New

The Rural Health Outreach Grant Program (RHOGP) is one of the major grant programs managed and funded by the Office of Rural Health Policy, Health Resources and Services Administration. The overall objectives of the program are to expand access to, coordinate, restrain the cost of, and improve the quality of essential health care services, including preventive and emergency services, through the development of integrated health care delivery systems or networks in rural areas and regions. While each project has different objectives and activities, all grantee projects involve the use of Networks of three or more organizations working together to improve health care in their communities. Projects may be carried out by networks of the same providers (e.g., all hospitals) or more diversified networks.

The proposed data collection instruments are intended to strengthen the Office of Rural Health Policy's (ORHP) Outreach Grant Program's existing grantee evaluation process and grantee data collection. This information collection activity will provide ORHP with an increased capacity for monitoring and evaluation and will permit the efficient review of the grant projects in relation to HRSA's strategic objectives.

The estimated response burden is as follows:

Form | Number of respondents | Responses per respondent | Hours per response | Total burden hours
Grantee Reporting Form | 53 | 1 | 8 | 424
Year 1 Progress Report | 140 | 1 | 8 | 1120
Year 2 Progress Report | 140 | 1 | 8 | 1120
Final Report | 53 | 1 | 12 | 636
Total | 193 |  |  | 3300

Send comments to Susan G. Queen, Ph.D., HRSA Reports Clearance Officer, Room 14-33, Parklawn Building, 5600 Fishers Lane, Rockville, MD 20857. Written comments should be received within 60 days of this notice.

Dated: January 11, 2001.
Jane M. Harrison,
Director, Division of Policy Review and Coordination.

[FR Doc. 01-1613 Filed 1-19-01; 8:45 am]

BILLING CODE 4160-15-P